DEPARTMENT OF TRANSPORTATION

Federal Aviation Administration

14 CFR Parts 27 and 29

[Docket No.: FAA-2006-25414; Amendment Nos. 27-44 and 29-51]

RIN 2120-AH87

Performance and Handling Qualities Requirements for Rotorcraft; Notice of Approval for Information Collection

AGENCY: Federal Aviation Administration (FAA), DOT.

ACTION: Final rule; Office of Management and Budget approval for information collection.

SUMMARY: This document announces the Office of Management and Budget's (OMB) approval of the information collection requirement for the final rule entitled Performance and Handling Qualities Requirements for Rotorcraft (Amendments 27-44 and 29-51), published February 29, 2008.

DATES: The FAA received OMB approval for the information collection requirements for Performance and Handling Qualities Requirements for Rotorcraft, effective March 25, 2008.

FOR FURTHER INFORMATION CONTACT: Jeff Trang, Rotorcraft Standards Staff, ASW-111, Federal Aviation Administration, Fort Worth, Texas 76193-0111; telephone (817) 222-5135; facsimile (817) 222-5961, e-mail jeff.trang@faa.gov.

SUPPLEMENTARY INFORMATION: On February 29, 2008, the FAA published the final rule, “Performance and Handling Qualities Requirements for Rotorcraft” (73 FR 10987). The rule provided new and revised airworthiness standards for normal and transport category rotorcraft due to technological advances in design and operational trends in normal and transport rotorcraft performance and handling qualities. The rule contained information collection requirements that had not yet been approved by OMB at the time of publication. In the DATES section of the rule, the FAA noted that affected parties did not need to comply with the information collection requirements until OMB approved the FAA's request to collect the information.

In accordance with the Paperwork Reduction Act of 1995, OMB approved the information collection request, without change, on March 25, 2008, and assigned OMB Control Number 2120-0726. This notice informs affected parties that effective March 25, 2008, the information collection requirements for Performance and Handling Qualities Requirements for Rotorcraft (Amendments 27-44 and 29-51) are approved. This information collection approval expires on March 31, 2011.

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements,” Section 44702, “Issuance of Certificates,” and section 44704, “Type certificates, production certificates, and airworthiness certificates.” Under section 44701, the FAA is charged with prescribing regulations and minimum standards for practices, methods, and procedures the Administrator finds necessary for safety in air commerce. Under section 44702, the FAA may issue various certificates including type certificates, production certificates, and airworthiness certificates. Under section 44704, the FAA shall issue type certificates for aircraft, aircraft engines, propellers, and specified appliances when we find that the product is properly designed and manufactured, performs properly, and meets the regulations and minimum prescribed standards. This regulation is within the scope of that authority because it promotes safety by updating the existing minimum prescribed standards used during the type certification process to reflect the enhanced performance and handling quality capabilities of rotorcraft.

Issued in Washington, DC, May 27, 2008.
Pamela Hamilton-Powell,
Director, Office of Rulemaking.

[FR Doc. E8-12363 Filed 6-2-08; 8:45 am]

BILLING CODE 4910-13-P